DEPARTMENT OF HEALTH AND HUMAN SERVICES

Food and Drug Administration

[Docket No. FDA-2020-N-0955]

Phibro Animal Health Corp.; Carbadox in Medicated Swine Feed; Revocation of Approved Method; Correction

AGENCY: Food and Drug Administration, Health and Human Services (HHS).

ACTION: Proposed order; correction.

SUMMARY: The Food and Drug Administration (FDA) is correcting a proposed order to revoke the approved method for detecting residues of carbadox, a carcinogenic new animal drug used in swine feed. The document was published with an incorrect docket number. This document corrects that error.

FOR FURTHER INFORMATION CONTACT: Diane Heinz, Center for Veterinary Medicine (HFV-6), Food and Drug Administration, 7500 Standish Pl., Rockville, MD 20855, 240-402-5692, diane.heinz@fda.hhs.gov.

SUPPLEMENTARY INFORMATION: In the Federal Register of July 20, 2020, in FR Doc. 2020-15246, on page 43853, the following correction is made:

On page 43853, in the second column, in the header of the document, and also in the third column under Instructions, “Docket No. FDA-2016-N-0832” is corrected to read “Docket No. FDA-2020-N-0955”.

Dated: August 3, 2020.
Lowell J. Schiller,
Principal Associate Commissioner for Policy.

[FR Doc. 2020-17177 Filed 8-5-20; 8:45 am]

BILLING CODE 4164-01-P